DEPARTMENT OF JUSTICE

Notice of Lodging of Proposed Amendment to Consent Decree Under the Clean Water Act

On May 30, 2014, the Department of Justice lodged with the United States District Court for the Eastern District of Virginia a proposed Third Amendment to the Consent Decree previously entered in United States and Commonwealth of Virginia v. Hampton Roads Sanitation District, Civil Action No. 2:09-cv-481 (“Third Amendment”).

The United States filed a complaint and lodged a consent decree concurrently in September, 2009, to address claims under the Clean Water Act arising from sanitary sewer overflows in the service area of the Hampton Roads Sanitation District (“HRSD”). A second amendment, entered in 2013, extended the deadline for the completion of the Regional Wet Weather Management Plan (“RWWMP”) in order to give HRSD and the local governments up to three years to study, evaluate, and implement regionalization, i.e., consolidation of ownership and control of all the collection and treatment system under HRSD.

The regionalization study was completed but the local governments and HRSD did not agree to transfer ownership to HRSD. This Third Amendment provides, consistent with HRSD and the local governments' agreement, that HRSD, as the central authority, will design, fund and implement the projects in the RWWMP, including in systems where the assets were owned by the local communities, so that the benefits of the regional approach could be realized. The Third Amendment also extends a final deadline for submission of the Regional Wet Weather Management Plan to 2017.

The publication of this notice opens a period for public comment on the proposed Third Amendment. Comments should be addressed to the Assistant Attorney General, Environment and Natural Resources Division, and should refer to United States et al. v. Hampton Roads Sanitation District, D.J. Ref. No. 90-5-1-1-09125. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Third Amendment may be examined and downloaded at this Justice Department Web site: http://www.usdoj.gov/enrd/Consent_Decrees.html. We will provide a paper copy of the Third Amendment upon written request and payment of reproduction costs. Please mail your request and payment to: Consent Decree Library, U.S. DOJ—ENRD, P.O. Box 7611, Washington, DC 20044-7611.

Please enclose a check or money order for $3.25 (25 cents per page reproduction cost) payable to the United States Treasury.

Robert Brook,
Assistant Section Chief, Environmental Enforcement Section, Environment and Natural Resources Division.

[FR Doc. 2014-13296 Filed 6-6-14; 8:45 am]

BILLING CODE 4410-15-P